DEPARTMENT OF ENERGY

Federal Energy Regulatory Commission

[Docket No. RP02-562-002]

Mississippi River Transmission Corporation; Notice of Compliance Filing

November 7, 2002.

Take notice that on November 4, 2002, CenterPoint Energy—Mississippi River Transmission Corporation (MRT) tendered for filing its compliance filing in conformity with the order of the Commission issued on October 25, 2002, 101 FERC ¶ 61,080 (2002) and the Commission's unpublished letter order dated November 1, 2002.

MRT states that a copy of this filing has been served on each person designated on the official service list in Docket No. RP02-562-000.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Magalie R. Salas,
Secretary.

[FR Doc. 02-29009 Filed 11-13-02; 8:45 am]

BILLING CODE 6717-01-P